DEPARTMENT OF LABOR

Occupational Safety and Health Administration

29 CFR Part 1910

Injury and Illness Prevention Program

AGENCY: Occupational Safety and Health Administration (OSHA), Labor.

ACTION: Notice of stakeholder meetings.

SUMMARY: OSHA invites interested parties to participate in informal stakeholder meetings on Injury and Illness Prevention Programs, referred to as “I2P2.” OSHA plans to use the information gathered at these meetings in developing an Injury and Illness Prevention Program proposed rule. The discussions will be informal and will provide the Agency with the necessary information to develop a rule that will help employers reduce workplace injuries and illnesses through a systematic process that proactively addresses workplace safety and health hazards.

DATES: Dates and locations for the stakeholder meetings are:

• June 3, 2010, 8:30 a.m. to 4:30 p.m., in East Brunswick, NJ.

• June 10, 2010, 8:30 a.m. to 4:30 p.m., in Dallas, TX.

• June 29, 2010, 8:30 a.m. to 4:30 p.m., in Washington, DC.

The deadlines for confirmed registration at each meeting are May 20, May 27, and June 15, 2010 respectively.

ADDRESSES:

I. Registration

Submit your notice of intent to participate in one of the scheduled meetings by one of the following:

• Electronic. Register at https://www2.ergweb.com/projects/conferences/osha/register-osha-I2P2.htm (follow the instructions online).

• Facsimile. Fax your request to: (781) 674-2906, and label it “Attention: OSHA I2P2 Stakeholder Meeting Registration.”

• Regular mail, express delivery, hand (courier) delivery, and messenger service.

Send your request to: Eastern Research Group, Inc., 110 Hartwell Avenue, Lexington, MA 02421; Attention: OSHA I2P2 Stakeholder Meeting Registration.

II. Meetings

Specific information on the location of each meeting can be found on the I2P2 Web site at https://www2.ergweb.com/projects/conferences/osha/register-osha-I2P2.htm.

FOR FURTHER INFORMATION CONTACT: Information regarding this notice is available from the following sources:

• Press inquiries. Contact Jennifer Ashley, Director, OSHA Office of Communications, Room N-3647, U.S. Department of Labor, 200 Constitution Avenue, NW., Washington, DC 20210; telephone: (202) 693-1999.

• General and technical information. Contact Michael Seymour, OSHA Directorate of Standards and Guidance, Room N-3718, U.S. Department of Labor, 200 Constitution Avenue, NW., Washington, DC 20210, telephone: (202) 693-1950.

• Copies of this Federal Register notice. Electronic copies are available at http://www.regulations.gov. This Federal Register notice, as well as news releases and other relevant information, also are available on the OSHA Web page at http://www.osha.gov.

SUPPLEMENTARY INFORMATION:

I. Background

Over the past 30 years, the occupational safety and health community has used various names to describe systematic approaches to reducing injuries and illnesses in the workplace. OSHA has voluntary Safety and Health Management Program guidelines, consensus and international standards use the term “Safety and Health Management Systems,” and OSHA's state plan states use terms such as “Injury and Illness Prevention Programs” and “Accident Prevention Programs.” In this notice, OSHA uses the term “Injury and Illness Prevention Programs.” Regardless of the title, the common goal of these approaches is to help employers reduce workplace injuries and illnesses through a systematic process that proactively addresses workplace safety and health hazards.

OSHA's History With Safety and Health Programs

The Occupational Safety and Health Act (29 U.S.C. 651 et seq.) (the Act) in Section 17, paragraph (j), provides the Occupational Safety and Health Review Commission (OSHRC) the authority to assess civil penalties giving due consideration to the good faith of the employer. Based on this paragraph of the Act, OSHA has also had a policy of reducing penalties for employers who have violated OSHA standards but who have demonstrated a good faith effort to provide a safe and healthy workplace to their employees. The Agency has long recognized the implementation of a safety and health program as a way of demonstrating good faith. Similarly, in its first decision, the OSHRC held that good faith compliance efforts are gauged primarily by the presence of effective safety and health programs (Nacirema Operating Co., 1 O.S.H. Cas. (BNA) 1001 (Rev. Comm'n 1972)).

Over the years, OSHA has established a number of initiatives to encourage employers to develop and implement employee safety and health programs. OSHA's Small Business Consultation Program, which offers small businesses with exemplary safety and health programs an opportunity for recognition under their Safety and Health Achievement Recognition Program (SHARP) and the Agency's Voluntary Protection Program (VPP) are two examples of such initiatives. The Agency established the VPP to recognize companies in the private sector with outstanding records in the area of employee safety and health. It became apparent that many of these worksites, which had higher levels of compliance, fewer serious hazards, and injury and illness rates markedly below industry averages, were relying on safety and health programs to produce these results.

Based on the growing support for safety and health programs, OSHA issued the Safety and Health Program Management Guidelines in 1989 (54 FR 3908). These guidelines reflect the best management practices of successful companies and encourage employers to institute and maintain a program which provides systematic policies, procedures, and practices that are adequate to recognize and protect their employees from occupational safety and health hazards. The guidelines identify four major elements of an effective program: Management commitment and employee involvement; worksite analysis; hazard prevention and controls; and safety and health training.

OSHA's Previous Rulemaking Effort

In October of 1995, OSHA held the first series of stakeholder meetings to discuss preliminary ideas for a safety and health program rule and the significant issues that would be raised by such a rule. Many small businesses and organizations representing small businesses attended the stakeholder meetings. Staff members from the Office of Advocacy of the Small Business Administration (SBA) were also present at the stakeholder meetings.

In all, OSHA interacted with hundreds of stakeholders, including employers, employees, employee representatives, trade associations, State and local government personnel, safety and health professionals, Advisory Committees, and other interested parties.

In 1998, OSHA developed a draft proposed rule that would have required employers in general industry and maritime workplaces to establish safety and health programs. The program in the draft proposed rule had five core elements, including: Management leadership and employee participation; hazard identification and assessment; hazard prevention and control; information and training; and evaluation of the program's effectiveness. In developing the draft proposed rule, OSHA worked extensively with stakeholders from labor, industry, safety and health organizations, State governments, trade associations, insurance companies, and small businesses.

On October 20, 1998, OSHA convened a Small Business Regulatory Enforcement Fairness Act (SBREFA) Panel for the draft Safety and Health Programs proposed rule. The Panel provided small entity representatives (SERs) with initial drafts of the rule, a summary of the rule, the Initial Regulatory Flexibility Analysis, a summary of the benefits and costs of the rule as it affected firms in the small entity representative's industry, OSHA's draft enforcement policy for the rule, and a list of issues of interest to panel members.

The SBREFA Panel held teleconferences and received written comments from the SERs. The comments, and the Panel's responses to them, formed the principal basis for the Panel's report. The Panel's report provided background information on the draft proposed rule and the types of small entities that would be subject to the proposed rule, described the Panel's efforts to obtain the advice and recommendations of representatives of those small entities, summarized the comments that had been received from those representatives, and presented the findings and recommendations of the Panel.

A proposed Safety and Health Program rule was never published, and the rulemaking effort was removed from the Regulatory Agenda on August 15, 2002. However, the effort in the 1990s showed the interest of OSHA, the States, employers, employees, OSHA's advisory committees, and others in a systematic process that proactively addresses workplace safety and health hazards. It demonstrated that OSHA was not alone in believing that these processes work to save lives and to prevent injuries and illnesses in the workplace.

Safety and Health Management System Consensus Standards

Recently, consensus standards have been developed that address safety and health management systems. The American Industrial Hygiene Association published a voluntary consensus standard, ANSI/AIHA Z10—2005 Occupational Safety and Health Management Systems, based on the “Plan-Do-Check-Act” cycle. The Z10 standard places an emphasis on continual improvement and systematically eliminating the underlying root cause of hazards. In addition, the Occupational Health and Safety Assessment Series (OHSAS) Project Group, which is an international association of government agencies, private industries, and consulting organizations, developed OHSAS 18001—2007 Occupational Health and Safety Management Systems in response to customer demand for a recognized occupational health and safety management system standard against which their management systems could be assessed and certified. The OHSAS 18001 is published by the British Standards Institute.

II. Stakeholder Meetings

Stakeholder meetings will provide OSHA with current information and appreciation of the views of a wide range of interests. The meetings will be conducted as a group discussion. To facilitate as much group interaction as possible, formal presentations will not be permitted. OSHA believes the stakeholder meeting discussion should center on major issues such as:

• Possible regulatory approaches.

• Scope and application of a rule.

—Covered industries.

—Covered employers (size, high/low injury rates).

—Covered hazards.

—Relationship to existing OSHA requirements.

• Organization of a rule.

—Regulatory text.

—Mandatory or voluntary appendices.

—Other standards incorporated by reference.

• The role of consensus standards.

• Economic impacts.

• Any additional topics as time permits.

In addition, OSHA is interested in receiving feedback on the following specific questions:

• In light of the ANSI Z10 standard, the OHSAS 18001 standard, and OSHA's 1989 guidelines, what are the advantages and disadvantages of addressing through rulemaking a systematic process that proactively addresses workplace safety and health hazards?

• Based on OSHA's experience, the agency believes that an I2P2 rule would include the following elements:

1. Management duties (including items such as establishing a policy, setting goals, planning and allocating resources, and assigning and communicating roles and responsibilities);

2. Employee participation (including items such as involving employees in establishing, maintaining and evaluating the program, employee access to safety and health information, and employee role in incident investigations);

3. Hazard identification and assessment (including items such as what hazards must be identified, information gathering, workplace inspections, incident investigations, hazards associated with changes in the workplace, emergency hazards, hazard assessment and prioritization, and hazard identification tools);

4. Hazard prevention and control (including items such as what hazards must be controlled, hazard control priorities, and the effectiveness of the controls);

5. Education and training (including items such as content of training, relationship to other OSHA training requirements, and periodic training); and

6. Program evaluation and improvement (including items such as monitoring performance, correcting program deficiencies, and improving program performance).

Are these the appropriate elements? Which elements are essential for an effective approach? Should additional elements be included?

• How can OSHA ensure that small business employers are able to implement and maintain an effective I2P2?

• Should an OSHA I2P2 rule apply to every business or should it be limited in some way based on an employer's size, industry, incident rates, and/or hazard indices?

• To what extent should OSHA rely on existing consensus standards in developing a rule?

• How can OSHA use state experience with injury and illness prevention in developing a rule?

• What mechanisms have been found to be effective for enabling employees to participate in safety and health in the workplace?

• Given the variety of names used to describe processes to reduce injuries and illnesses in the workplace, what is the most appropriate name for OSHA to describe this topic?

III. Public Participation

Approximately 50 participants will be accommodated in each meeting, and eight hours will be allotted for each meeting. Members of the general public may observe, but not participate in, the meetings on a first-come, first-served basis as space permits. OSHA staff will be present to take part in the discussions. Logistics for the meetings are being managed by Eastern Research Group (ERG), which will provide a facilitator and compile notes summarizing the discussion; these notes will not identify individual speakers. ERG also will make an audio recording of each session to ensure that the summary notes are accurate; these recordings will not be transcribed. The summary notes will be available on OSHA's Web page at http://www.osha.gov.

Specific information on the location of each meeting can be found on the I2P2 Web site at https://www2.ergweb.com/projects/conferences/osha/register-osha-I2P2.htm.

To participate in one of the stakeholder meetings, or be a nonparticipating observer, you may submit notice of intent electronically, by facsimile, or by hard copy. In order to encourage as wide a range of viewpoints as possible, OSHA will confirm participants as necessary to ensure a fair representation of interests and to facilitate gathering diverse viewpoints. To receive a confirmation of your participation 1 week before the meeting, register by the date listed in the DATES section of this notice. However, registration will remain open until the meetings are full. Additional nonparticipating observers that do not register for the meeting will be accommodated as space permits. See the ADDRESSES section of this notice for the registration Web site, facsimile number, and address. To register electronically, follow the instructions provided on the Web site. To register by mail or facsimile, please indicate the following:

• Name, address, phone, fax, and e-mail.

• Meeting location you would like to attend.

• Organization for which you work.

• Organization you represent (if different).

• Stakeholder category: Government, industry, standards-developing organization, research or testing agency, union, trade association, insurance, consultant, or other (if other, please specify).

• Industry sector (if applicable).

Electronic copies of this Federal Register notice, as well as news releases and other relevant documents, are available on the OSHA Web page at: http://www.osha.gov.

IV. Authority and Signature

This document was prepared under the direction of David Michaels, PhD, MPH, Assistant Secretary of Labor for Occupational Safety and Health, U.S. Department of Labor, pursuant to sections 4, 6, and 8 of the Occupational Safety and Health Act of 1970 (29 U.S.C. 653, 655, 657), 29 CFR part 1911, and Secretary's Order 5-2007 (72 FR 31160).

Signed at Washington, DC, on April 12, 2010.
David Michaels,
Assistant Secretary of Labor for Occupational Safety and Health.

[FR Doc. 2010-10138 Filed 5-3-10; 8:45 am]

BILLING CODE 4510-26-P